DEPARTMENT OF THE INTERIOR

National Park Service

[NPS-NER-PAGR-18936; PX.P0156924I.00.1]

Notice of Termination of the Environmental Impact Statement for the General Management Plan for Paterson Great Falls National Historical Park, New Jersey

AGENCY: National Park Service, Interior.

ACTION: Notice of Termination.

SUMMARY: The National Park Service (NPS) is preparing a general management plan (GMP) for Paterson Great Falls National Historical Park. A Notice of Intent to prepare an environmental impact statement (EIS) for the GMP was published in the Federal Register on November 14, 2011. The NPS has decided to terminate the EIS and instead, has prepared an environmental assessment (EA) for the GMP (GMP/EA).

DATES: The GMP/EA is expected to be distributed for public review and comment during the fall of 2015. The NPS will provide information on when the GMP/EA will be released for public review, the dates of the public comment period, and the dates that public meetings will be held on the park's planning Web site at http://parkplanning.nps.gov/pagr and through local and regional media.

ADDRESSES: Refer to the park's planning Web site at http://parkplanning.nps.gov/pagrforadditionalinformationonwhereandhowtoobtainacopyoftheGMP/EA, how to comment on the GMP/EA, and locations of upcoming public meetings.

FOR FURTHER INFORMATION CONTACT: Darren Boch, Superintendent; Paterson Great Falls National Historical Park; 72 McBride Avenue; Paterson, NJ 07501.

SUPPLEMENTARY INFORMATION: This is Paterson Great Falls National Historical Park's first general management plan and will provide the framework for guiding resource management, visitor experiences, facilities and partnerships. The issues addressed by the GMP include: Sustaining the park's fundamental resources; providing for safe, sustainable public access and recreational activities; building new and reinforcing existing partnerships to protect the park's natural and cultural resources; and improving facilities and infrastructure that meets the needs of both visitors and the community. GMP planning and alternatives development incorporated input from park partners; participants in local community meetings; consultation with local, regional, and national government agencies; and comments gathered during the Paterson Great Falls Advisory Commission meetings. The public was informed about the process and invited to participate through the park's Web site, newsletters, emails, letters, and local media.

The GMP was originally scoped as an EIS; however, internal discussions and input received during public and agency scoping did not raise any potentially significant environmental issues nor has the impact analysis identified any potentially significant adverse impacts. It is also noted that many of the actions proposed in the GMP/EA will have benefits to the park's resources, operational needs, and visitor experiences. For these reasons the NPS determined that an EA is the appropriate level of environmental review for the GMP.

Dated: July 30, 2015.
Brian Strack,
Associate Regional Director; Planning, Facilities & Conservation Assistance, Northeast Region, National Park Service.

[FR Doc. 2015-23452 Filed 9-17-15; 8:45 am]

BILLING CODE 4310-WV-P